Proclamation 7401 of January 17, 2001

To Implement an Accelerated Schedule of Duty Elimination Under the North American Free Trade Agreement and for Other Purposes

By the President of the United States of America

A Proclamation

1. On December 17, 1992, the Governments of Canada, Mexico, and the United States of America entered into the North American Free Trade Agreement (NAFTA). The NAFTA was approved by the Congress in section 101(a) of the North American Free Trade Agreement Implementation Act (the “NAFTA Implementation Act”) (19 U.S.C. 3311(a)) and was implemented with respect to the United States by Presidential Proclamation 6641 of December 15, 1993.

2. Section 201(b) of the NAFTA Implementation Act (19 U.S.C. 3331(b)) authorizes the President, subject to the consultation and layover requirements of section 103(a) of the NAFTA Implementation Act (19 U.S.C. 3313(a)), to proclaim accelerated schedules for duty elimination that the United States may agree to with Mexico or Canada. Consistent with Article 302(3) of the NAFTA, I, through my duly empowered representative, entered into an agreement with the Government of Mexico on November 30, 2000, providing for an accelerated schedule of duty elimination for specific goods of Mexico. The consultation and layover requirements of section 103(a) of the NAFTA Implementation Act with respect to such schedule of duty elimination will be satisfied on December 30, 2000.

3. Pursuant to section 201(b) of the NAFTA Implementation Act, I have determined that the modifications hereinafter proclaimed of duties on goods originating in the territory of a NAFTA party are necessary or appropriate (i) to maintain the general level of reciprocal and mutually advantageous concessions with respect to Mexico provided for by the NAFTA, and (ii) to carry out the agreement with Mexico providing an accelerated schedule of duty elimination for specific goods.

4. Section 213(b)(3)(A) of the Caribbean Basin Economic Recovery Act (CBERA) (19 U.S.C. 2703(b)(3)(A)), as amended by section 211(a) of the United States-Caribbean Basin Trade Partnership Act (Title II of Public Law 106-200) (CBTPA), provides that the tariff treatment accorded at any time during the transition period defined in section 213(b)(5)(D) of the CBERA (19 U.S.C. 2703(b)(5)(D)), as amended by section 211(a) of the CBTPA, to certain articles that are originating goods of designated CBTPA beneficiary countries shall be identical to the tariff treatment that is accorded at such time under Annex 302.2 of the NAFTA to an article described in the same 8-digit subheading of the Harmonized Tariff Schedule of the United States (HTS) that is a good of Mexico and is imported into the United States. Such articles are described in sub paragraphs (B) through (F) of section 213(b)(1) of the CBERA (19 U.S.C. 2703(b)(1)(B)-(F)), as amended by section 211(a) of the CBTPA.

5. Section 604 of the Trade Act of 1974, as amended (the “1974 Act”)(19 U.S.C. 2483), authorizes the President to embody in the HTS the substance of the relevant provisions of Acts affecting import treatment, and actions thereunder, including the removal, modification, continuance, or imposition of any rate of duty or other import restriction.

NOW, THEREFORE, I, WILLIAM J. CLINTON, President of the United States of America, acting under the authority vested in me by the Constitution and the laws of the United States, including section 201(b) of the NAFTA Implementation Act, section 211 of the CBTPA, section 213 of the CBERA, and section 604 of the 1974 Act, do proclaim that:

(1) In order to provide for an accelerated schedule of duty elimination for specific goods of Mexico under the NAFTA and to provide identical tariff treatment for originating goods of a CBTPA beneficiary country provided for in the same HTS subheading, the tariff treatment set forth in the HTS is modified as provided in section 1 of the Annex to this proclamation.

(2) In order to provide for an accelerated schedule of duty elimination for specific goods of Mexico under the NAFTA, the tariff treatment set forth in the HTS is modified as provided in section 2 of the Annex to this proclamation.

(3) Any provisions of previous proclamations and Executive orders that are inconsistent with the actions taken in this proclamation are superseded to the extent of such inconsistency.

(4) The amendments made to the HTS by the Annex to this proclamation shall be effective with respect to goods entered, or withdrawn from warehouse for consumption, on or after January 1, 2001.

IN WITNESS WHEREOF, I have hereunto set my hand this seventeenth day of January, in the year of our Lord two thousand one, and of the Independence of the United States of America the two hundred and twenty-fifth.

wj

Billing code 3195-01-P

[FR Doc. 01-2137

Filed 1-22-01; 8:45 am]

Billing code 3195-01-C